DEPARTMENT OF DEFENSE

Office of the Secretary

[Docket ID DoD-2014-OS-0049]

Privacy Act of 1974; System of Records

AGENCY: Defense Information Systems Agency, DoD.

ACTION: Notice to delete a System of Records Notice.

SUMMARY: The Defense Information Systems Agency is deleting a system of records notice in its existing inventory of record systems subject to the Privacy Act of 1974, as amended. The notice is entitled “K890.10, Joint Enterprise Directory Services (JEDS)”.

DATES: Comments will be accepted on or before May 9, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901, or (301) 225-8158.

SUPPLEMENTARY INFORMATION: The Defense Information Systems Agency systems of records notices subject to the Privacy Act of 1974 (5 U.S.C. 552a), as amended, have been published in the Federal Register and are available from the address in FOR FURTHER INFORMATION CONTACT or at the Defense Privacy and Civil Liberties Web site at http://dpclo.defense.gov/.

The proposed deletion is not within the purview of subsection (r) of the Privacy Act of 1974 (5 U.S.C. 552a), as amended, which requires the submission of a new or altered system report.

Dated: April 4, 2014.
Aaron Siegel,
Alternate OSD Federal Register Liaison Officer, Department of Defense.

Deletion:

K890.10, Joint Enterprise Directory Services (JEDS) (January 31, 2008, 73 FR 5825).

Reason: Based on a recent review of DISA systems of records K890.10, Joint Enterprise Directory Services (JEDS) (January 31, 2008, 73 FR 5825), was decommissioned in September 2013; any new records are now covered by the DMDC 02 DoD, Defense Enrollment Eligibility Reporting System (DEERS) (November 21, 2012, 77 FR 69807) and therefore can be deleted.

[FR Doc. 2014-07932 Filed 4-8-14; 8:45 am]

BILLING CODE 5001-06-P